DEPARTMENT OF TRANSPORTATION

Federal Aviation Administration

14 CFR Part 71

[Docket No. FAA-2016-5444; Airspace Docket No. 16-ANE-1]

Amendment of Class D and Class E Airspace; Falmouth, MA

AGENCY: Federal Aviation Administration (FAA), DOT.

ACTION: Final rule, correction.

SUMMARY: This action corrects a final rule published in the Federal Register of September 23, 2016, amending Class D and E airspace. Class E airspace designated as an extension at Cape Cod Coast Guard Air Station, (formerly Otis ANGB), Falmouth, MA is corrected by adjusting the radials of the Class E surface extensions to coincide with the FAA's aeronautical database. Also, Falmouth Airpark is added to the Class E extension airspace description.

DATES: Effective 0901 UTC, November 10, 2016. The Director of the Federal Register approves this incorporation by reference action under title 1, Code of Federal Regulations, part 51, subject to the annual revision of FAA Order 7400.11 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

History

The Federal Register published a final rule amending Class D and E airspace at Cape Cod Coast Guard Air Station, Falmouth, MA (81 FR 65532, September 23, 2016) Docket No. FAA-2016-5444. In the Class E airspace designated as an extension, further review revealed the surface area extension radials for Cape Cod Coast Guard Air Station were given in magnetic values, instead of true values. Also, Falmouth Airpark, previously excluded from this Class E airspace is included in the description.

Class D and E airspace designations are published in paragraphs 5000, 6004, and 6005 of FAA Order 7400.11A dated August 3, 2016, and effective September 15, 2016, which is incorporated by reference in 14 CFR part 71.1. The Class E airspace designation listed in this document will be published subsequently in the Order.

Availability and Summary of Documents for Incorporation by Reference

This document amends FAA Order 7400.11A, Airspace Designations and Reporting Points, dated August 6, 2016, and effective September 15, 2016. FAA Order 7400.11A is publicly available as listed in the ADDRESSES section of this document. FAA Order 7400.11A lists Class A, B, C, D, and E airspace areas, air traffic service routes, and reporting points.

Correction to Final Rule

Accordingly, pursuant to the authority delegated to me, in the Federal Register of September 23, 2016 (81 FR 65532) FR Doc. 22748, Amendment of Class D and E Airspace for Cape Cod Coast Guard Air Station, Falmouth, MA, is corrected as follows:

§ 71.1 [Amended]

AEA MD E4 Falmouth, MA [Corrected]

On page 65533, column 2, add the following:

after line 39, add “Falmouth Airpark (lat. 41°35′08″ N., long. 70°32′25″ W.)”,

and on line 41, remove “55°”, and add in its place, “39°”,

and on line 45, remove “143°”, and add in its place, “127°”,

and on line 49, remove “234°”, and add in its place, “219°”,

and on line 51, after “airport,” add “excluding that airspace within a 1-mile

radius of Falmouth Airpark”,

and on line 52, remove “323°”, and add in its place, “307°”.

Issued in College Park, Georgia, on October 18, 2016.
Paul Lore,
Acting Manager, Operations Support Group, Eastern Service Center, Air Traffic Organization.

[FR Doc. 2016-25710 Filed 10-24-16; 8:45 am]

BILLING CODE 4910-13-P